DEPARTMENT OF LABOR

Employment and Training Administration

Notice Inviting Proposals for Selected Demonstration Projects for Youth Offenders; Correction

AGENCY: Employment and Training Administration, Department of Labor.

ACTION: Correction.

SUMMARY: In notice document 00-32018 beginning on page 79124 in the issue of Monday, December 18, 2000, make the following correction.

On page 79133, Appendix A—COVERSHEET, on the second line Application for funding under SGA/DFA-110 “Community Audits”. This should be changed to Application for funding under SGA/DFA 01-101 “Youth Offender Demonstration Projects”.

Signed at Washington, DC this date, December 19, 2000.
Laura A. Cesario,
Grant Officer, Division of Federal Assistance.

[FR Doc. 00-32708 Filed 12-21-00; 8:45 am]

BILLING CODE 4510-30-M